DEPARTMENT OF STATE

[Public Notice: 12469]

Industry Advisory Group: Notice of Open Meeting

The U.S. Department of State Bureau of Overseas Buildings Operations (OBO) will host the Industry Advisory Group (IAG) Annual Meeting from 8:30 a.m. to 5:30 p.m. on Wednesday, September 18, 2024. The meeting will be hybrid and open to the public from 1:30 p.m.-5:30 p.m., including a networking session starting at 4:30 p.m., at the U.S. Department of State, located at 2201 C Street NW, Washington, DC.

The meeting will primarily be devoted to discussions between the Department's senior management and IAG members regarding industry and academia's latest concepts, methods, best practices, innovations, and ideas supporting OBO's mission to provide the most effective facilities for United States diplomacy abroad. Additionally, time will be provided for public members to ask questions and provide comments.

The public may attend this meeting in-person as seating capacity allows. Admittance to the State Department building will be through a pre-arranged clearance list. OBO External Affairs will post an open registration announcement on OBO's website (www.state.gov/obo) and social media and email the announcement to OBO's distribution list approximately 60 days before the event date. We encourage those interested in attending the IAG Annual Meeting to sign up for OBO's Distribution List.

Please forward any requests for reasonable accommodation to OBOExternalAffairs@state.gov by August 29, 2024. Request for reasonable accommodation made after that date will be considered but may not be fulfilled.

For further information, please contact External Affairs at OBOExternalAffairs@state.gov.

William H. Moser,
Director, Bureau of Overseas Buildings Operations, Department of State.

[FR Doc. 2024-16420 Filed 7-25-24; 8:45 am]

BILLING CODE 4710-51-P